SECURITIES AND EXCHANGE COMMISSION

Sunshine Act Meetings

Notice is hereby given, pursuant to the provisions of the Government in the Sunshine Act, Pub. L. 94-409, that the Securities and Exchange Commission will hold the following meetings during the week of February 28, 2005:

A Closed Meeting will be held on Wednesday, March 2, 2005 at 10 a.m., and an Open Meeting will be held on Thursday, March 3, 2005 at 10 a.m. in Room 1C30, William O. Douglas Meeting Room.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), 9(ii) and (10), permit consideration of the scheduled matters at the Closed Meeting.

Commissioner Campos, as duty officer, voted to consider the items listed for the closed meeting in closed session and that no earlier notice thereof was possible.

The subject matter of the Closed Meeting scheduled for Wednesday, March 2, 2005, will be:

Formal orders of investigations;

Institution and settlement of injunctive actions; and

Institution and settlement of administrative proceedings of an enforcement nature.

The subject matters of the Open Meeting scheduled for Thursday, March 3, 2005, will be:

1. The Commission will consider whether to adopt new rule 22c-2 under the Investment Company Act of 1940. The rule would allow registered open-end investment companies (“funds”) to impose a redemption fee, not to exceed two percent of the amount redeemed, to be retained by the fund. The new rule also would require funds to enter into written agreements with intermediaries (such as broker-dealers and retirement plan administrators) that hold fund shares on behalf of other investors, under which the intermediaries must agree to (i) provide funds with certain shareholder identity and transaction information at the request of the fund, and (ii) implement fund instructions to implement trading restrictions against traders the fund has identified as violating the fund's market timing policies. The Commission is also seeking additional comment on whether it should establish uniform standards for redemption fees charged under the rule.

2. The Commission will consider whether to propose a new rule, under the Securities Exchange Act of 1934, that would define the term “nationally recognized statistical rating organization” (or “NRSRO”).

3. The Commission will consider whether to approve the budget of the Public Company Accounting Oversight Board and will consider the annual accounting support fees under section 109 of the Sarbanes-Oxley Act of 2002.

At times, changes in Commission priorities require alterations in the scheduling of meeting items.

For further information and to ascertain what, if any, matters have been added, deleted or postponed, please contact:

The Office of the Secretary at (202) 942-7070.

Dated: February 24, 2005.
Margaret H. McFarland,
Deputy Secretary.

[FR Doc. 05-3995 Filed 2-25-05; 11:34 am]

BILLING CODE 8010-01-P